ENVIRONMENTAL PROTECTION AGENCY

[EPA-HQ-RCRA-2015-0108; FRL-9928-06-OEI]

Information Collection Request Submitted to OMB for Review and Approval; Comment Request; RCRA Expanded Public Participation (Renewal)

AGENCY: Environmental Protection Agency (EPA).

ACTION: Notice.

SUMMARY: The Environmental Protection Agency has submitted an information collection request (ICR), “RCRA Expanded Public Participation (Renewal)” (EPA ICR No. 1688.08, OMB Control No. 2050-0149) to the Office of Management and Budget (OMB) for review and approval in accordance with the Paperwork Reduction Act (44 U.S.C. 3501 et seq.). This is a proposed extension of the ICR, which is currently approved through June 30, 2015. Public comments were previously requested via the Federal Register (80 FR 13375) on March 13, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 27, 2015.

ADDRESSES: Submit your comments, referencing Docket ID Number EPA-HQ-RCRA-2015-0108, to (1) EPA online using www.regulations.gov (our preferred method), by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Michael Pease, Office of Solid Waste and Emergency Response, Mail Code 5303P, Environmental Protection Agency, 1200 Pennsylvania Ave. NW., Washington, DC 20460; telephone number: 703-308-0008; fax number: 703-308-8433; email address: pease.michael@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Section 7004(b) of the Resource Conservation and Recovery Act (RCRA) gives EPA broad authority to provide for, encourage and assist public participation in the development, revision, implementation and enforcement of any regulation, guideline, information or program under RCRA. In addition, the statute specifies certain public notices (i.e., radio, newspaper, and a letter to relevant agencies) that EPA must provide before issuing any RCRA permit. The statute also establishes a process by which the public can dispute a permit and request a public hearing to discuss it. EPA carries out much of its RCRA public involvement at 40 CFR 124 and 40 CFR 270.

Form Numbers: None.

Respondents/affected entities: Private facilities.

Respondent's obligation to respond: Mandatory (RCRA 7004(b)).

Estimated number of respondents: 59.

Frequency of response: On occasion.

Total estimated burden: 5,614 hours (per year). Burden is defined at 5 CFR 1320.03(b).

Total estimated cost: $369,547 (per year), includes $5,681 annualized capital or operation & maintenance costs.

Changes in the Estimates: There is increase of 2,609 hours in the total estimated respondent burden compared with the ICR currently approved by OMB. This increase is due to the adjustment in the respondent universe from 33 to 59.

Courtney Kerwin,
Acting Director, Collection Strategies Division.

[FR Doc. 2015-15674 Filed 6-25-15; 8:45 am]

BILLING CODE 6560-50-P